DEPARTMENT OF ENERGY

Federal Energy Regulatory Commission

Combined Notice of Filings #1

February 25, 2009.

Take notice that the Commission received the following exempt wholesale generator filings:

Docket Numbers: EG09-30-000.

Applicants: High Lonesome Mesa, LLC.

Description: Self Certification Notice of High Lonesome Mesa, LLC under EG09-30.

Filed Date: 02/18/2009.

Accession Number: 20090218-5051.

Comment Date: 5 p.m. Eastern Time on Wednesday, March 11, 2009.

Take notice that the Commission received the following electric rate filings:

Docket Numbers: ER05-1218-003; ER00-2887-006; ER05-1219-003; ER06-703-002; ER07-1341-003; ER96-149-013; ER97-2414-012.

Applicants: Bayonne Plant Holding, L.L.C.; Newark Bay Cogeneration Partnership, L.P; Camden Plant Holding, L.L.C.; Pedricktown Cogeneration Company, LP; York Generation Company LLC; Dartmouth Power Associates Limited Partnership; Lowell Cogeneration Company Limited Partnership.

Description: Supplement to Updated Market Power Analysis of Bayonne Plant Holding, L.L.C., et al.

Filed Date: 02/17/2009.

Accession Number: 20090217-5063.

Comment Date: 5 p.m. Eastern Time on Tuesday, March 10, 2009.

Docket Numbers: ER09-198-002.

Applicants: New York Independent System Operator, Inc.

Description: 90-Day Report on Development of Solutions to Loop Flow and Inter-ISO/RTO Congestion Management of New York Independent System Operator, Inc.

Filed Date: 02/17/2009.

Accession Number: 20090217-5209.

Comment Date: 5 p.m. Eastern Time on Tuesday, March 10, 2009.

Docket Numbers: ER09-732-000.

Applicants: Windhorse Energy, Inc.

Description: Windhorse Energy, Inc submits a Petition for Acceptance of Initial Rate Schedule, Waivers and Blanket Authority.

Filed Date: 02/23/2009.

Accession Number: 20090224-0112.

Comment Date: 5 p.m. Eastern Time on Monday, March 16, 2009.

Docket Numbers: ER09-737-000.

Applicants: BE Walton LLC.

Description: BE Walton LLC submits Notice of Cancellation to its FERC Electric Tariff, Original Volume 1.

Filed Date: 02/23/2009.

Accession Number: 20090224-0061.

Comment Date: 5 p.m. Eastern Time on Monday, March 16, 2009.

Docket Numbers: ER09-738-000.

Applicants: BE Colquitt LLC.

Description: BE Colquitt LLC submits Notice of Cancellation to its FERC Electric, Original Volume 1.

Filed Date: 02/23/2009.

Accession Number: 20090224-0060.

Comment Date: 5 p.m. Eastern Time on Monday, March 16, 2009.

Docket Numbers: ER09-739-000.

Applicants: BE Satilla LLC.

Description: BE Satilla LLC submits Notice of Cancellation to its FERC Electric Tariff, Original Volume 1.

Filed Date: 02/23/2009.

Accession Number: 20090224-0059.

Comment Date: 5 p.m. Eastern Time on Monday, March 16, 2009.

Docket Numbers: ER09-740-000.

Applicants: Carolina Power & Light Company.

Description: Carolina Power & Light Company submits new cost based power supply and coordination agreement between Progress and North Carolina Electric Membership Corporation, Rate Schedule FERC No 182.

Filed Date: 02/23/2009.

Accession Number: 20090224-0058.

Comment Date: 5 p.m. Eastern Time on Monday, March 16, 2009.

Docket Numbers: ER09-742-000.

Applicants: Westar Energy, Inc.

Description: Westar Energy, Inc et al. submits Fourth Revised Sheet No. 1 et al. to First Revised Rate Schedule No. 168.

Filed Date: 02/20/2009.

Accession Number: 20090224-0099.

Comment Date: 5 p.m. Eastern Time on Friday, March 13, 2009.

Docket Numbers: ER09-743-000.

Applicants: Southern California Edison Company.

Description: Southern California Edison Co submits Third Revised Sheet No. 26 to FERC Electric Tariff, First Revised Volume No. 5.

Filed Date: 02/20/2009.

Accession Number: 20090224-0107.

Comment Date: 5 p.m. Eastern Time on Friday, March 13, 2009.

Docket Numbers: ER09-744-000.

Applicants: Niagara Mohawk Power Corporation.

Description: Niagara Mohawk Power Corp submits the Engineering, Permitting and Construction Services Agreement.

Filed Date: 02/20/2009.

Accession Number: 20090224-0108.

Comment Date: 5 p.m. Eastern Time on Friday, March 13, 2009.

Docket Numbers: ER09-745-000.

Applicants: Baltimore Gas and Electric Company.

Description: Baltimore Gas and Electric Company submits Appendix A—Revised PJM Tariff sheets showing the proposed changes to Attachment H-2A et al. effective 6/1/09.

Filed Date: 02/20/2009.

Accession Number: 20090224-0100.

Comment Date: 5 p.m. Eastern Time on Friday, March 13, 2009.

Take notice that the Commission received the following electric securities filings:

Docket Numbers: ES09-20-000.

Applicants: NorthWestern Corporation.

Description: Application of Northwestern Corporation for Authorization to Issue Securities and Request for Shortened Comment Period.

Filed Date: 02/17/2009.

Accession Number: 20090217-5210.

Comment Date: 5 p.m. Eastern Time on Tuesday, March 10, 2009.

Take notice that the Commission received the following open access transmission tariff filings:

Docket Numbers: OA07-39-003; OA08-71-003.

Applicants: Xcel Energy Services Inc.

Description: Order No. 890 OATT Filing of Xcel Energy Services Inc. under OA08-71 and OA07-31, et al.

Filed Date: 02/18/2009.

Accession Number: 20090218-5068.

Comment Date: 5 p.m. Eastern Time on Wednesday, March 11, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-6948 Filed 3-27-09; 8:45 am]

BILLING CODE 6717-01-P